DEPARTMENT OF ENERGY

Federal Energy Regulatory Commission

[Project No. 199-203]

South Carolina Public Service Authority; Notice of Availability of Environmental Assessment

June 29, 2004.

In accordance with the National Environmental Policy Act of 1969 and the Federal Energy Regulatory Commission regulations, 18 CFR part 380 (Order No. 486, 52 FR 47897), the Office of Energy Projects staff (staff) reviewed the request to use Santee-Cooper Project lands and waters in the development of a Lake Marion Regional Water System Project. The project is located on the Santee and Cooper Rivers (Lake Marion and Lake Moultrie) in Berkeley, Calhoun, Clarendon, Orangeburg, and Sumter Counties, South Carolina. Staff prepared an environmental assessment (EA) for the application and analyzed the effects of structures to be constructed on project lands, as well as the water withdrawal from Lake Marion. Staff concluded that the licensee's proposal would not constitute a major federal action significantly affecting the quality of the human environment.

A copy of the EA is available for review at the Commission in the Public Reference Room, located at 888 First Street, NE., Room 2A, Washington, DC 20426 or may be viewed on the Commission's Web site at http://www.ferc.gov using the “eLibrary” link. Enter the docket number excluding the last three digits in the docket number field to access the Commission order and attached EA, issued June 28, 2004 (107 FERC ¶ 62,285). For assistance, contact FERC On-line Support at FERCOnlineSupport@ferc.gov or call toll-free (866) 208-3676 for TTY, call (202) 502-8659.

Linda Mitry,
Acting Secretary.

[FR Doc. E4-1517 Filed 7-9-04; 8:45 am]

BILLING CODE 6717-01-P